ENVIRONMENTAL PROTECTION AGENCY

[FRL-6544-4]

Proposed Settlement, Clean Air Act Citizen Suit

AGENCY: Environmental Protection Agency (EPA).

ACTION: Notice of proposed consent decree; request for public comment.

SUMMARY: In accordance with section 113(g) of the Clean Air Act, as amended (“EPA”), 42 U.S.C. 7413(g), notice is hereby given of a proposed consent decree in litigation instituted against the United States Environmental Protection Agency (“EPA”) by the South Coast Air Quality Management District (“District” or “plaintiff”). This lawsuit, filed on November 4, 1998, concerns EPA's failure to act under section 110(k) of the Clean Air Act, 42 U.S.C. 7401 et seq., to approve or disapprove the District's proposed revisions to the state implementation plan (SIP) for the South Coast.

DATES: Written comments on the proposed consent decree must be received by March 30, 2000.

ADDRESSES: Written comments should be sent to Dave Jesson, Air Division (AIR-2), U.S. Environmental Protection Agency, 75 Hawthorne Street, San Francisco, California 94105-3901, (415) 744-1288, jesson.david&epa.gov. Copies of the proposed consent decree are available from Kay Kovitch at the above address, (415) 744-1267, kovitch.kay@epa.gov. On January 11, 2000, the parties lodged the proposed consent decree with the Clerk of the United States District Court for the Central District of California.

SUPPLEMENTARY INFORMATION: In South Coast Air Quality Management District v. EPA, No. 98-9789 (C.D. CA), the plaintiff alleges, among other things, that EPA failed to approve or disapprove the District's proposed revisions to the State Implementation Plan (SIP). The proposed revisions in the District's claim include ozone and particulate matter (PM-10) plans adopted by the District on November 15, 1996, approved by the State on January 23, 1997, and submitted to EPA on February 5, 1997; and 46 rules submitted at various times by the District through the State to EPA for inclusion in its SIP.

In order to resolve this matter without protracted litigation, the plaintiff and EPA have reached agreement on a proposed consent decree that has been signed by the parties and was lodged with the District Court on January 11, 2000. The proposed consent decree provides that EPA shall take final action on the following SIP submittals as specified: (1) Ozone plan submitted on February 5, 1997, no later than 20 days after the District provides written notice to EPA requesting such actions; (2) District Rules 429, 2002, and 2005 on or before January 31, 2000; and (3) District Rules 518.2 and 1623 on or before February 15, 2000. In the proposed consent decree, the District agreed to file a voluntary dismissal without prejudice of that portion of its complaint challenging EPA's failure to take final action on all of the remaining rules identified in the District's claim.

For a period of thirty (30) days following the date of publication of this notice, the Agency will receive written comments relating to the proposed consent decree from persons who were not named as parties or intervenors to the litigation in question. EPA or the Department of Justice may withdraw or withhold consent to the proposed consent decree if the comments disclose facts or considerations that indicate that such consent is inappropriate, improper, inadequate, or inconsistent with the requirements of the Act.

Dated: February 18, 2000.
Gary S. Guzy,
General Counsel.

[FR Doc. 00-4781 Filed 2-28-00; 8:45 am]

BILLING CODE 6560-50-M